DEPARTMENT OF DEFENSE

Department of the Army

Programmatic Environmental Assessment for Infantry Brigade Combat Team Conversion to an Armored Brigade Combat Team and Stationing

AGENCY: Department of the Army, DoD.

ACTION: Notice of availability.

SUMMARY: The Department of the Army has completed a Programmatic Environmental Assessment (PEA) analyzing the proposed conversion of an Infantry Brigade Combat Team (IBCT) at Fort Carson, Colorado, into an Armored Brigade Combat Team (ABCT) and the stationing of that newly converted ABCT at one of five Army installations: Fort Carson, Colorado; Fort Bliss, Texas; Fort Hood, Texas; Fort Riley, Kansas; or Fort Stewart, Georgia. The Army is making the PEA and a draft Finding of No Significant Impact (FNSI) available for public comment. The PEA does not identify significant environmental impacts from any of the alternatives under the proposed action. The draft FNSI concludes that preparation of an environmental impact statement is not required, and therefore will not be prepared.

DATES: The public comment period will end 30 days after publication of the Notice of Availability in the Federal Register by the Department of the Army.

ADDRESSES: Written comments should be sent to: U.S. Army Environmental Command, ATTN: Public Comments, 2450 Connell Road (Building 2264), Joint Base San Antonio—Fort Sam Houston, TX 78234-7664; or email: usarmy.jbsa.aec.nepa@mail.mil.

FOR FURTHER INFORMATION CONTACT: Please contact the U.S. Army Environmental Command Public Affairs Office, (210) 466-1590 or toll-free 855-846-3940, or email at usarmy.jbsa.aec.nepa@mail.mil.

SUPPLEMENTARY INFORMATION: The Army has prepared this PEA in accordance with the National Environmental Policy Act of 1969 (NEPA); the regulations issued by the Council on Environmental Quality, 40 Code of Federal Regulations (CFR) Parts 1500-1508 (40 CFR 1500-1508); and the Army's procedures for implementing NEPA, published in 32 CFR 651, Environmental Analysis of Army Actions.

This PEA analyzes the proposed conversion of an IBCT into an ABCT to increase the Active Army's ABCT capacity by one brigade (from 10 to 11), increasing the Total Army's number of ABCTs from 15 to 16 (including Army National Guard units), and to station that new ABCT at an existing installation in the United States. To achieve the increase in ABCTs, the proposed action is to convert Fort Carson's 2nd Infantry Brigade Combat Team, (4th Infantry Division IBCT) into the 16th ABCT. The need for this action is to reduce the shortfall in Total Army ABCT capacity to meet contingency operational demands. The Army's ability to maintain a continuous and ready ABCT presence to deter threats requires the conversion to take place in fiscal year 2019.

The ABCT consists of 4,182 Soldiers and equipment includes 87 M1 Abrams Tanks, 138 Bradley Infantry Fighting Vehicles, and a variety of other weapons and vehicles.

The ABCT stationing would occur at one of the following installations: Fort Carson, Colorado (Alternative 1); Fort Bliss, Texas (Alternative 2); Fort Hood, Texas (Alternative 3); Fort Riley, Kansas (Alternative 4); or Fort Stewart, Georgia (Alternative 5).

This PEA will provide the decision-maker with important information regarding potential environmental and socioeconomic impacts associated with each alternative. As such, the scope of this PEA is broad and encompasses activities to support ABCT stationing and planning for facilities projected to be required from fiscal years 2018 to 2021. The programmatic approach is designed to allow for early planning, coordination, and flexibility throughout implementation of the Army's process of stationing an ABCT.

Implementation of the proposed action would require unit stationing (e.g., realignment or inactivation), garrison construction and demolition, live-fire training, and maneuver training. The proposed action and alternatives do not propose or require land expansion or acquisition.

Adverse impacts were anticipated to be less than significant for air quality and greenhouse gas, biological resources, cultural resources, soils, traffic and transportation, surface waters, and wetlands. Negligible adverse effects were anticipated for land use, noise, geology, groundwater, floodplains, airspace, facilities, energy demand and generation, utilities, hazardous materials, hazardous waste, and human health and safety. Socioeconomic impacts for Fort Carson were anticipated to be negligible under Alternative 1 and moderately adverse under Alternatives 2 through 5. Socioeconomic impacts for Fort Bliss, Fort Hood, Fort Riley, and Fort Stewart were anticipated to be beneficial under the gain-scenario alternative for each installation, with no impacts under the remaining alternatives.

Members of the public, federally-recognized Native American Tribes, and federal, state, and local agencies are invited to submit written comments on the PEA and/or draft FNSI.

The PEA and draft FNSI may be accessed at: https://aec.army.mil/index.php?cID=352.

Brenda S. Bowen,
Army Federal Register Liaison Officer.

[FR Doc. 2018-06459 Filed 3-29-18; 8:45 am]

BILLING CODE 5001-03-P